DEPARTMENT OF ENERGY

Office of Energy Efficiency and Renewable Energy

Advisory Committee on Appliance Energy Efficiency Standards

AGENCY: Office of Energy Efficiency and Renewable Energy, Department of Energy.

ACTION: Notice of open meeting.

SUMMARY: This notice announces a meeting of the Energy Conservation Program for Consumer Products: Advisory Committee on Appliance Energy Efficiency Standards. Federal Advisory Committee Act (Pub. L. No. 92-463, 86 Stat. 770) requires that public notice of these meetings be announced in the Federal Register.

DATE AND TIME: March 28, 2000, 12:30 p.m.-4:30 p.m.

ADDRESSES: U.S. Department of Energy, 1000 Independence Avenue, SW, Room 1E-245, Washington, DC 20585-0121.

FOR FURTHER INFORMATION CONTACT: Linda Graves, U.S. Department of Energy, Office of Energy Efficiency and Renewable Energy, Forrestal Building, Mail Station EE-41, 1000 Independence Avenue, SW, Washington, DC 20585-0121, (202) 586-1851 or 586-7819, or Brenda Edwards-Jones, U.S. Department of Energy, Office of Energy Efficiency and Renewable Energy, Forrestal Building, Mail Station EE-41, 1000 Independence Avenue, SW, Washington, DC 20585-0121, (202) 586-2945.

SUPPLEMENTARY INFORMATION: Purpose of the Meeting: The Charter of the Advisory Committee has been renewed for two years to December, 2000. This is the third meeting of the Committee since the charter was renewed. The Committee will review and deliberate on DOE's activities regarding appliance energy efficiency standards and provide comments and recommendations to the Department.

Preliminary Agenda:

• Introductions, Agenda Review (12:30 p.m.)

• Chairman's Opening Remarks

• Update members on DOE rulemaking: schedule, priorities, and plans for FY 2001

• Discuss recommendations, if available, from the electronic database sub-committee

• Discuss recommendations, if available, from the consumer sub-committee

• Update members on efficiency levels for DOE commercial equipment activities

• Action Items and next meeting

• Chairman's Closing Remarks

• Adjourn (4:30 p.m.)

Please note that this draft agenda is preliminary. The times and agenda items listed are guidelines and are subject to change. A final agenda will be available at the meeting on Tuesday, March 28, 2000.

Consumer Issues: The Department is interested in addressing consumer issues in its rulemakings. If you have any issues which you would like to be addressed by the Committee, please contact Ms. Linda Graves at the address and phone number listed in the beginning of this notice.

Public Participation: The meeting is open to the public. If you would like to file a written statement with the Committee, you may do so either before or after the meeting. Please provide ten copies of your statement. If you would like to make oral statements regarding any of the items on the agenda, you should contact Brenda Edwards-Jones at (202) 586-2945. You must make your request for an oral statement at least seven days before the meeting. Presentations will be limited to five minutes. We will try to include the statement in the agenda. The Chairperson of the Committee will conduct the meeting to facilitate the orderly conduct of business.

Minutes: We will make the minutes of this meeting available for public review and copying within 30 days at the Freedom of Information Public Reading Room, Room 1E-190, Forrestal Building, 1000 Independence Avenue, SW, Washington, DC 20585, (202) 586-3142, between 9:00 a.m. and 4:00 p.m., Monday through Friday, except Federal holidays.

Issued in Washington, DC, on February 22, 2000.
Rachel Samuel,
Deputy Advisory Committe Management Officer.

[FR Doc. 00-4440 Filed 2-24-00; 8:45 am]

BILLING CODE 6450-01-P